NUCLEAR REGULATORY COMMISSION

[Docket No. 50-285; NRC-2016-0040]

Omaha Public Power District; Fort Calhoun Station, Unit No. 1

AGENCY: Nuclear Regulatory Commission.

ACTION: License amendment application; withdrawal by applicant.

SUMMARY: The U.S. Nuclear Regulatory Commission (NRC) has granted the request of the Omaha Public Power District (the licensee) to withdraw its license amendment application dated August 31, 2015, as supplemented by letters dated December 23, 2015, and June 9, 2016, for a proposed amendment to Renewed Facility Operating License No. DPR-40. The proposed amendment would have revised the Fort Calhoun Station, Unit No. 1 (FCS), Updated Safety Analysis Report (USAR) to change the structural design methodology for Class I structures at FCS to use American Concrete Institute ultimate strength requirements, with the exception of the containment structure (cylinder, dome, and base mat), the spent fuel pool, and the foundation mats.

DATES: The license amendment was withdrawn by the licensee on July 27, 2016.

ADDRESSES: Please refer to Docket ID NRC-2016-0040 when contacting the NRC about the availability of information regarding this document. You may obtain publicly-available information related to this document using any of the following methods:

• Federal Rulemaking Web site: Go to http://www.regulations.gov and search for Docket ID NRC-2016-0040. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Carl F. Lyon, Office of Nuclear Reactor Regulation, U.S. Nuclear Regulatory Commission, Washington, DC 20555-0001; telephone: 301-415-2296, email: Fred.Lyon@nrc.gov.

SUPPLEMENTARY INFORMATION: The NRC has granted the request of the licensee to withdraw its August 31, 2015, license amendment application (ADAMS Accession No. ML15243A167), as supplemented by letters dated December 23, 2015, and June 9, 2016 (ADAMS Accession Nos. ML15363A042 and ML16165A028, respectively), for a proposed amendment to Renewed Facility Operating License No. DPR-40 for the FCS, located in Washington County, Nebraska.

The proposed amendment would have revised the FCS USAR to change the structural design methodology for Class I structures at FCS to use American Concrete Institute ultimate strength requirements, with the exception of the containment structure (cylinder, dome, and base mat), the spent fuel pool, and the foundation mats.

This proposed amendment was noticed in the Federal Register on March 1, 2016 (81 FR 10681). By letter dated July 27, 2016 (ADAMS Accession No. ML16209A126), the licensee withdrew its license amendment application.

Dated at Rockville, Maryland, this 2nd day of August 2016.
For the Nuclear Regulatory Commission.
Carl F. Lyon,
Project Manager, Plant Licensing Branch IV-1, Division of Operating Reactor Licensing, Office of Nuclear Reactor Regulation.

[FR Doc. 2016-18744 Filed 8-5-16; 8:45 am]

BILLING CODE 7590-01-P